DEPARTMENT OF THE INTERIOR

National Park Service

[NPS-WASO-NAGPRA-NPS0039517; PPWOCRADN0-PCU00RP14.R50000]

Notice of Inventory Completion: University of Tennessee, McClung Museum of Natural History & Culture, Knoxville, TN

AGENCY: National Park Service, Interior.

ACTION: Notice.

SUMMARY: In accordance with the Native American Graves Protection and Repatriation Act (NAGPRA), the University of Tennessee, McClung Museum of Natural History & Culture (UTK), has completed an inventory of human remains and associated funerary objects and has determined that there is a cultural affiliation between the human remains and associated funerary objects and Indian Tribes or Native Hawaiian organizations in this notice.

DATES: Repatriation of the human remains and associated funerary objects in this notice may occur on or after April 17, 2025.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, 233 individuals have been identified. The 111 lots of associated funerary objects are 53 lots of ceramics, 40 lots of lithics, nine lots of faunal remains, four lots of botanicals, two lots of minerals, and three lots of shell.

These individuals were removed from 40SW20, the “Indian Bluff” site, in Stewart County, TN. They were removed between July-October 1939, by Works Progress Administration (WPA) crews under the direction of George W. Brainerd. After the 1939 excavation, they were transferred to UTK. 40SW20 was a Mississippian Period, “Middle Cumberland Culture” (~1000-1425 CE), site consisting of a mostly stone box cemetery and a village on the east bank of the Cumberland River. Cultural affiliation was determined through Tribal consultation. In consultation, The Chickasaw Nation communicated their cultural affiliation and specifically referenced geographical and historical information: Treaty with the United States and the Chickasaws, 1805, which shows that Stewart County, TN is part of the aboriginal homeland of the Chickasaw people.

Some of the remains were “repaired” using an unknown glue, and some were treated with an unknown preservative, however, to our knowledge no potentially hazardous substances were used to treat the remains.

Cultural Affiliation

Based on the information available and the results of consultation, cultural affiliation is clearly identified by the information available about the human remains and associated funerary objects described in this notice.

Determinations

UTK has determined that:

• The human remains described in this notice represent the physical remains of 233 individuals of Native American ancestry.

• The 111 lots of objects described in this notice are reasonably believed to have been placed intentionally with or near individual human remains at the time of death or later as part of the death rite or ceremony.

• There is a connection between the human remains and associated funerary objects described in this notice and The Chickasaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 17, 2025. If competing requests for repatriation are received, UTK must determine the most appropriate requestor prior to repatriation. Requests for joint repatriation of the human remains and associated funerary objects are considered a single request and not competing requests. UTK is responsible for sending a copy of this notice to the Indian Tribes and Native Hawaiian organizations identified in this notice.

Authority: Native American Graves Protection and Repatriation Act, 25 U.S.C. 3003, and the implementing regulations, 43 CFR 10.10.

Dated: February 11, 2025.
Melanie O'Brien,
Manager, National NAGPRA Program.

[FR Doc. 2025-04383 Filed 3-17-25; 8:45 am]

BILLING CODE 4312-52-P